DEPARTMENT OF JUSTICE

Drug Enforcement Administration

21 CFR Part 1308

[Docket No. DEA1156]

Announcement of Hearing: Schedules of Controlled Substances: Placement of 2,5-dimethoxy-4-iodoamphetamine (DOI) and 2,5-dimethoxy-4-chloroamphetamine (DOC) inSchedule I

AGENCY: Drug Enforcement Administration, Department of Justice.

ACTION: Notification of hearing on proposed rulemaking.

SUMMARY: This is notification that the Drug Enforcement Administration will hold a hearing with respect to the proposed placement of two phenethylamine hallucinogens, as identified in the proposed rule, in schedule I of the Controlled Substances Act.

DATES: The hearing will commence on June 10, 2024, at 9 a.m. ET at the DEA Hearing Facility, 700 Army Navy Drive, Arlington, VA 22202. The hearing may be moved to a different place and may be continued from day to day or recessed to a later date without notice other than announcement thereof by the Administrative Law Judge at the hearing. 21 CFR 1316.53.

FOR FURTHER INFORMATION CONTACT: Hearing Clerk, Debralynn Rosario, Office of the Administrative Law Judges, 8701 Morrissette Drive, Springfield, Virginia 22152; Telephone: (571) 362-7035.

SUPPLEMENTARY INFORMATION:

Background

On December 13, 2023, the Drug Enforcement Administration published a Notice of Proposed Rulemaking (NPRM) in the Federal Register (88 FR 86278) to place two phenethylamine hallucinogen substances in schedule I of the Controlled Substances Act (CSA) (21 U.S.C. 801, et seq.). Specifically, in this NPRM, DEA proposed to schedule the following two controlled substances in schedule I of the CSA, including their salts, isomers, and salts of isomers whenever the existence of such salts, isomers, and salts of isomers is possible within the specific chemical designation:

• 2,5-dimethoxy-4-iodoamphetamine (DOI), and

• 2,5-dimethoxy-4-chloroamphetamine (DOC).

Pursuant to that notice provided in the NPRM, three (3) requests for hearing were filed with DEA. Upon review of the requests for hearings, I have authorized a hearing, and direct the Chief Administrative Law Judge to assign the matter to an Administrative Law Judge who will complete all prehearing procedures, conduct a due process hearing in accordance with the Administrative Procedure Act (5 U.S.C. 551-559), the CSA (21 U.S.C. 811, et seq.), and the DEA regulations, and issue a recommended decision for the Agency's review and action.

Hearing Notification

Pursuant to 21 U.S.C. 811(a), 21 CFR 1308.44, and 21 CFR 1316.47, DEA is convening a hearing on the NPRM. Accordingly, the hearing will commence on June 10, 2024, at 9 a.m. ET at the DEA Hearing Facility, 700 Army Navy Drive, Arlington, VA 22202. The hearing may be moved to a different place and may be continued from day to day or recessed to a later date without notice other than announcement thereof by the Administrative Law Judge at the hearing. 21 CFR 1316.53.

Signing Authority

This document of the Drug Enforcement Administration was signed on March 28, 2024, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Scott Brinks,
Federal Register Liaison Officer, Drug Enforcement Administration.

[FR Doc. 2024-07473 Filed 4-8-24; 8:45 am]

BILLING CODE 4410-09-P